DEPARTMENT OF ENERGY

International Energy Agency Meetings

AGENCY: Department of Energy.

ACTION: Notice of Meetings.

SUMMARY: The Industry Advisory Board (IAB) to the International Energy Agency (IEA) will meet on March 19 and 20, 2014, at the headquarters of the IEA in Paris, France in connection with a meeting of the IEA's Standing Group on Emergency Questions (SEQ) on March 19, 2014, and in connection with a joint meeting of the SEQ and the IEA's Standing Group on the Oil Market (SOM) on March 20, 2014.

DATES: March 19-20, 2014.

ADDRESSES: 9, rue de la Fédération, Paris, France.

FOR FURTHER INFORMATION CONTACT: Diana D. Clark, Assistant General Counsel for International and National Security Programs, Department of Energy, 1000 Independence Avenue SW., Washington, DC 20585, 202-586-3417.

SUPPLEMENTARY INFORMATION: In accordance with section 252(c)(1)(A)(i) of the Energy Policy and Conservation Act (42 U.S.C. 6272(c)(1)(A)(i)) (EPCA), the following notice of meetings is provided:

Meetings of the Industry Advisory Board (IAB) to the International Energy Agency (IEA) will be held at the headquarters of the IEA, 9, rue de la Fédération, Paris, France, on March 19, 2014, commencing at 9:30 a.m., and on March 20, 2014, commencing at 1:30 p.m. The purpose of this notice is to permit attendance by representatives of U.S. company members of the IAB at a meeting of the IEA's Standing Group on Emergency Questions (SEQ) commencing at 9:30 a.m. on March 19, and at a joint meeting of the SEQ and the IEA's Standing Group on the Oil Markets (SOM) on March 20 commencing at 1:30 p.m. The IAB will also hold a preparatory meeting among company representatives at the same location at 8:30 a.m. on March 20. The agenda for this preparatory meeting is to review the agenda for the SEQ meeting and to discuss IAB Chairmanship.

The agenda of the SEQ meeting on March 19 is under the control of the SEQ. It is expected that the SEQ will adopt the following agenda:

1. Adoption of the Agenda

2. Approval of the Summary Record of the 140th Meeting

3. Status of Compliance with IEP Stockholding Commitments

4. Emergency Response Exercise 7

—Overview of ERE7 and Summary of Exercise in Capitals

5. Emergency Response Review Program

—Schedule of Emergency Response Reviews

—Emergency Response Review of Italy

—Emergency Response Review of Belgium

—Mid-term Emergency Reponse Review of Korea

—Emergency Response Review of Luxembourg

—Mid-term Emergency Response Review of Hungary

6. Electricity Baseline Survey Findings

7. Energy Supply Security 2014 Publication

8. Climate-Energy Security Nexus Forum

9. Policy and Other Developments in Member Countries

—Oral reports by administrations

10. Activities with International Organizations and Partner Countries

—Overview of cooperation with Indonesia, Cambodia, Asia Pacific Energy Research Center, Colombia, Mexico, India and China

—Emergency Response Assessment of India

—Mid-term Emergency Response Assessment of Thailand

11. Emergency Oil Stock Mechanisms—adjusting to new realities?

12. Technical Discussion—stocks on water

13. Report From the Industry Advisory Board

14. Other Business

— Tentative Schedule of Next Meetings:

— June 24-26, 2014

— October 21-23, 2014

—November 2014 (ERE7)

The agenda of the joint meeting of the SEQ and the SOM on March 20 is under the control of the SEQ and the SOM. It is expected that the SEQ and the SOM will adopt the following agenda:

1. Adoption of the Agenda

2. Approval of the Summary Record of the October 17, 2013 Joint Session

3. Reports on Recent Oil Market and Policy Developments in IEA Countries

4. The Current Oil Market Situation

5. Natural Gas Market Update

6. Update on OIM Projects and Priorities

7. Other Business

—Tentative schedule of upcoming SEQ and SOM meetings:

—June 24-26, 2014

—October 21-23, 2014

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, March 6, 2014.
Diana D. Clark,
Assistant General Counsel for International and National Security Programs.

[FR Doc. 2014-05361 Filed 3-11-14; 8:45 am]

BILLING CODE 6450-01-P